DEPARTMENT OF COMMERCE

Foreign-Trade Zones Board

[Docket 23-2002]

Foreign-Trade Zone 46—Cincinnati, Ohio; Application For Foreign-Trade Subzone Status, General Electric Aircraft Engines, (Gas Turbine Engines), Cincinnati, OH

An application has been submitted to the Foreign-Trade Zones Board (the Board) by the Greater Cincinnati Foreign Trade Zone, Inc., grantee of FTZ 46, requesting special-purpose subzone status for the manufacturing and distribution facilities (gas turbine engines) of General Electric Aircraft Engines (GEAE) in Cincinnati, Ohio. The application was submitted pursuant to the Foreign-Trade Zones Act, as amended (19 U.S.C. 81a-81u), and the regulations of the Board (15 CFR part 400). It was formally filed on May 28, 2002.

The GEAE facilities are located at One Neumann Way in Cincinnati, Ohio (6.5 million square feet of enclosed space on 413 acres). The facilities (6,000 employees) are used for the development, manufacture, and distribution of gas turbine engines and engine parts for aerospace, marine, and industrial applications. Foreign-sourced materials account for approximately 10 to 20 percent of finished-product value, and may include items from the following categories: Plastic or rubber tubes, plates, and other articles; fiberglass sheets; stainless steel wire; iron or steel tubes or fittings; stranded wire products; iron or steel fasteners; nickel or nickel-alloy products; aluminum wire and fittings; cobalt mattes; titanium nuts, bolts, screws, tubes, sleeves, and bars; articles of chromium and rhenium; base metal fittings, tubing, and stoppers; pumps for liquids and parts thereof; heat exchange units; centrifuges; valves and parts thereof; bearings and parts thereof; transmission shafts and parts thereof; gaskets; electric motors; electrical inductors and ignition equipment; signaling equipment; electrical switches and relays; insulated wire and cable; ceramic insulators; counters and other instruments; measuring or checking instruments; and lamps and lighting fittings.

Zone procedures would exempt GEAE from Customs duty payments on foreign materials used in production for export. On domestic sales, the company would be able to choose the duty rates that apply to the finished products (duty-free to 2.5 %) rather than the duty rates that would otherwise apply to the foreign-sourced materials noted above (duty-free to 15 %). In addition, GEAE states that it would realize logistical/procedural and other benefits. FTZ status may also make a site eligible for benefits provided under state/local programs. The application indicates that the savings from zone procedures will help improve the plant's international competitiveness.

In accordance with the Board's regulations, a member of the FTZ Staff has been designated examiner to investigate the application and report to the Board. Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is August 5, 2002. Rebuttal comments in response to material submitted during the foregoing period may be submitted during the subsequent 15-day period to August 19, 2002. A copy of the application and accompanying exhibits will be available for public inspection at the Office of the Foreign-Trade Zones Board's Executive Secretary at address Number 1 listed above, and at the U.S. Department of Commerce Export Assistance Center, 36 East 7th Street, Suite 2650, Cincinnati, OH 45202.

Dated: May 29, 2002.
Dennis Puccinelli,
Executive Secretary.

[FR Doc. 02-14073 Filed 6-4-02; 8:45 am]

BILLING CODE 3510-DS-P